DEPARTMENT OF LABOR

Employment and Training Administration

Notice of Availability of Funds and Solicitation for Grant Applications for Workforce Innovation Fund Grants

AGENCY: Employment and Training Administration, Labor.

ACTION: Notice of Solicitation for Grant Applications (SGA).

Funding Opportunity Number: SGA/DFA PY 13-06.

SUMMARY: The Employment and Training Administration (ETA), U.S. Department of Labor, announces the availability of up to $53 million in grant funds to be awarded under the Workforce Innovation Fund (WIF) grant program and anticipates awarding between 8-15 grants. These funds support innovative approaches that generate long-term improvements in the performance of the public workforce system, outcomes for job seekers and employers, and cost-effectiveness. All projects funded under the WIF will be rigorously evaluated in order to build a body of knowledge about what works in workforce development.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is June 18, 2014. Applications must be received no later than 4:00:00 p.m. Eastern Time.

FOR FURTHER INFORMATION CONTACT: Jeannette Flowers, 200 Constitution Avenue NW., Room N-4716, Washington, DC 20210; Email: Flowers.Jeannette@dol.gov.

Signed May 14, 2014 in Washington, DC.
Donna Kelly,
Grant Officer, Employment and Training Administration.

[FR Doc. 2014-11778 Filed 5-20-14; 8:45 am]

BILLING CODE 4510-FN-P